DEPARTMENT OF LABOR

Employment and Training Administration

[TA-W-71,106; TA-W-71,106A]

Paris Accessories, Inc., Including On-Site Leased Workers From Job Connections, New Smithville, PA; Paris Accessories, Inc., Allentown, PA; Amended Certification Regarding Eligibility To Apply for Worker Adjustment Assistance

In accordance with Section 223 of the Trade Act of 1974, as amended (“Act”), 19 U.S.C. 2273, the Department of Labor issued a Notice of Revised Determination on Reconsideration applicable to workers of Paris Accessories, Inc., including on-site leased workers from Job Connections, New Smithville, Pennsylvania. The Notice of revised determination was issued on May 27, 2010. The Notice was published in the Federal Register on June 16, 2010 (75 FR 34180). The workers of the subject firm are engaged in employment related to the assembly and packaging of accessories.

The company official reports that workers from the New Smithville, Pennsylvania facility also worked at the Allentown, Pennsylvania facility. Further, the workers moved interchangeably between the two facilities.

Based on these findings, the Department is amending this certification to include workers of Paris Accessories, Inc., Allentown, Pennsylvania.

The amended notice applicable to TA-W-71,106 is hereby issued as follows:

All workers of Paris Accessories, Inc., New Smithville, Pennsylvania (TA-W-71,106) and all workers of Paris Accessories, Inc., Allentown, Pennsylvania (TA-W-71,106A) who became totally or partially separated from employment on or after May 27, 2008 through May 27, 2012, and all workers in the group threatened with total or partial separation from employment on or after May 27, 2010 through May 27, 2012, are eligible to apply for adjustment assistance under Chapter 2 of Title II of the Trade Act of 1974, as amended.

Signed in Washington, DC, this 8th day of July, 2010.
Del Min Amy Chen,
Certifying Officer, Division of Trade Adjustment Assistance.

[FR Doc. 2010-17386 Filed 7-15-10; 8:45 am]

BILLING CODE 4510-FN-P